DEPARTMENT OF HEALTH AND HUMAN SERVICES

Centers for Disease Control and Prevention

Disease, Disability, and Injury Prevention and Control Special Emphasis Panel (SEP): Initial Review

The meeting announced below concerns Occupational Safety and Health Education and Research Centers (ERC) PAR 10-217, initial review.

In accordance with Section 10(a)(2) of the Federal Advisory Committee Act (Pub. L. 92-463), the Centers for Disease Control and Prevention (CDC) announces the aforementioned meeting:

Times and Dates:

6:00 p.m.-8:00 p.m., February 23, 2015 (Closed).

8:00 a.m.-6:00 p.m., February 24, 2015 (Closed).

8:00 a.m.-6:00 p.m., February 25, 2015 (Closed).

8:00 a.m.-6:00 p.m., February 26, 2015 (Closed).

Place: Renaissance Atlanta Midtown Hotel, 866 West Peachtree Street NW., Atlanta, Georgia 30308, Telephone: (678) 412-2400.

Status: The meeting will be closed to the public in accordance with provisions set forth in Section 552b(c) (4) and (6), Title 5 U.S.C., and the Determination of the Director, Management Analysis and Services Office, CDC, pursuant to Public Law 92-463.

Matters for Discussion: The meeting will include the initial review, discussion, and evaluation of applications received in response to “Occupational Safety and Health Education and Research Centers (ERC) PAR 10-217.”

FOR FURTHER INFORMATION CONTACT: George Bockosh, M.S., Scientific Review Officer, National Institute for Occupational Safety and Health (NIOSH), CDC, 2400 Century Center Parkway NE., 4th Floor, Mailstop E-74, Atlanta, Georgia 30345, Telephone: (412) 386-6465, GGB0@CDC.GOV and Donald Blackman, Ph.D., Scientific Review Officer, NIOSH, CDC, 2400 Century Center Parkway NE., 4th Floor, Room 4204, Mailstop E-74, Atlanta, Georgia 30345, Telephone: (404) 498-6185, DYB7@CDC.GOV.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-01817 Filed 1-29-15; 8:45 am]

BILLING CODE 4163-18-P